INTERNATIONAL TRADE COMMISSION

[Investigation No. 337-TA-876]

Certain Microelectromechanical Systems (“MEMs Devices”) and Products Containing the Same

AGENCY: U.S. International Trade Commission.

ACTION: Notice.

SUMMARY: Notice is hereby given that the U.S. International Trade Commission has determined not to review an initial determination (“ID”) (Order No. 65) by the presiding administrative law judge (“ALJ”) terminating the investigation in its entirety based on a settlement agreement. The investigation is terminated.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on April 15, 2013, based on a complaint filed by STMicroelectronics, Inc., of Coppell, Texas (“STMicro”). 78 FR 22293 (April 15, 2013). The complaint alleges violations of section 337 of the Tariff Act of 1930, as amended (19 U.S.C. 1337), in the importation into the United States, the sale for importation, and the sale within the United States after importation of certain microelectromechanical systems (“MEMs Devices”) and products containing the same by reason of infringement of five U.S. patents. The notice of investigation names InvenSense, Inc., of Sunnyvale, California (“InvenSense”); Roku, Inc, of Saratoga, California (“Roku”); and Black & Decker, Inc., of New Britain, Connecticut (“Black & Decker”), as respondents.

On February 28, 2014, the ALJ issued an ID (Order No. 65) granting a joint motion by STMicro, InvenSense, and Black & Decker to terminate the investigation in its entirety. The motion is based on a settlement agreement and a patent cross-license agreement between STMicro and InvenSense. The ALJ found that there are no other agreements between the parties concerning the subject of the investigation and that the parties had complied with the Commission's rules for termination based on a settlement agreement. The ALJ also stated that terminating the investigation by settlement would not be contrary to the public interest and will conserve public and private resources. Accordingly, the ALJ determined that the investigation should be terminated in its entirety. No petitions for review of the ID were filed.

The Commission has determined not to review the ID.

The authority for the Commission's determination is contained in section 337 of the Tariff Act of 1930, as amended (19 U.S.C. 1337), and in Part 210 of the Commission's Rules of Practice and Procedure (19 CFR Part 210).

By order of the Commission.
Issued: March 19, 2014.
Lisa R. Barton,
Acting Secretary to the Commission.

[FR Doc. 2014-06428 Filed 3-24-14; 8:45 am]

BILLING CODE 7020-02-P